DEPARTMENT OF ENERGY

Federal Energy Regulatory Commission

[Project No. 2997-031]

South Sutter Water District; Notice of Reasonable Period of Time for Water Quality Certification Application

On November 22, 2024, the California State Water Resources Control Board (Water Board) submitted to the Federal Energy Regulatory Commission (Commission) a notice that it received a complete application requesting a Clean Water Act section 401(a)(1) water quality certification from South Sutter Water District, in conjunction with the above captioned project on October 25, 2024. Pursuant to section 4.34(b)(5) of the Commission's regulations,¹ we hereby notify the Water Board of the following:

¹ 18 CFR 4.34(b)(5).

Date of Receipt of the Certification Request: October 25, 2024.

Reasonable Period of Time to Act on the Certification Request: October 25, 2025.

If the Water Board fails or refuses to act on the water quality certification request on or before the above date, then the certifying authority is deemed waived pursuant to section 401(a)(1) of the Clean Water Act, 33 U.S.C. 1341(a)(1).

Dated: November 25, 2024.
Debbie-Anne A. Reese,
Secretary.

[FR Doc. 2024-28252 Filed 12-2-24; 8:45 am]

BILLING CODE 6717-01-P